SMALL BUSINESS ADMINISTRATION

Program for Investment in Microentrepreneurs (PRIME); Notice of Funds Availability (NOFA) Inviting Applications for the PRIME Program

AGENCY: U.S. Small Business Administration.

ACTION: Notice of funds availability (NOFA) inviting applications.

SUMMARY: The Program for Investment in Microentrepreneurs Act of 1999 (Pub.L. 106-102), enacted November 12, 1999, (“the Act”) authorizes the U.S. Small Business Administration (“SBA”) to award grants under the Program for Investment in Microentrepreneurs (PRIME) Program. The Acting Administrator of the SBA invites applications for selection as a participating grantee under the PRIME Program. The Final Rule (13 CFR part 119) published in today's Federal Register provides guidance on the contents of the necessary application materials, evaluation criteria and other program requirements. Applicants for selection as a participating grantee can find more detailed application content requirements in the PRIME program announcements, that are available on SBA's website at: http://www.sba.gov/financing/frprime.html

SBA expects to award grants of up to $250,000 to a minimum of 60 PRIME Program participants. A total of $15 million is available for this purpose. SBA reserves the right to select and fund some, all, or none of the applicants for participation in the PRIME program.

DATES: Applications may be submitted to SBA immediately. The deadline for receipt of an application is 4:00 p.m. EST on June 28, 2001. Applications received in SBA's offices after that date and time, with the exception of mailed applications as indicated in the Program Announcements, will be rejected and returned to the sender.

ADDRESSES: Applications must be sent to U.S. Small Business Administration, Office of Procurement and Grants Management, 409 3rd Street, SW, Washington, DC 20416, Attn: Mina Bookhard, Agreement Officer. Applications sent electronically or by facsimile will not be accepted.

FOR FURTHER INFORMATION CONTACT: If you have any questions about the requirements for this program or application procedures, or if you are unable to access the application via the internet, contact Warren Boyd, Jaunice Cromer, or Felicia Smith at the SBA Microenterprise Development Branch, 202-205-6485. Applications may be downloaded from SBA's web site at: http://www.sba.gov/financing/frprime.html

Program Authority: Program for Investment in Microentrepreneurs Act, Pub. L. No. 106-102, and 13 CFR part 119.

Dated: May 21, 2001.
Jeanne Sclater,
Acting Associate Deputy Administrator, Office of Capital Access.

[FR Doc. 01-13231 Filed 5-25-01; 8:45 am]

BILLING CODE 8025-01-P